NATIONAL FOUNDATION ON THE ARTS AND THE HUMANITIES

National Endowment for the Arts; Combined Arts Advisory Panel

Pursuant to section 10(a)(2) of the Federal Advisory Committee Act (Pub. L. 92-463), as amended, notice is hereby given that six meetings of the Combined Arts Advisory Panel to the National Council on the Arts will be held at the Nancy Hanks Center, 1100 Pennsylvania Avenue, NW, Washington, DC, 20506 as follows:

Theater/Musical Theater (A): July 15-19, 2002, Room 714 (Creativity category). A portion of this meeting, from 2:30 p.m. to 4:30 p.m. on July 18th, will be open to the public for policy discussion. The remaining portions of this meeting, from 9:30 a.m. to 6:30 p.m. on July 15th to 17th, 9:30 a.m. to 2:30 p.m. and 4:30 p.m. to 6:30 p.m. on July 18th, and from 9:30 a.m. to 5 p.m. on July 19th, will be closed.

Literature: July 30-August 1, 2002, Room 730 (Creativity and Organizational Capacity categories). A portion of this meeting, from 9 a.m. to 10:30 a.m. on August 1st, will be open to the public for policy discussion. The remaining portions of this meeting, from 9 a.m. to 7 p.m. on July 30th and July 31st, and from 10:30 a.m. to 4 p.m. on August 1st, will be closed.

Theater (B): August 5-9, 2002, Room 714 (Creativity and Organizational Capacity categories). A portion of this meeting, from 2:30 p.m. to 4:30 p.m. on August 8th, will be open to the public for policy discussion. The remaining portions of this meeting, from 9:30 a.m. to 6:30 p.m. on August 5th-7th, from 9:30 a.m. to 2:30 p.m. and 4:30 p.m. to 6:30 p.m. on August 8th, and from 9:30 a.m. to 5 p.m. on August 9th, will be closed.

Dance: August 5-9, 2002, Room 716 (Creativity and Organizational Capacity categories). A portion of this meeting, from 9:30 a.m. to 10:30 a.m. on August 9th, will be open to the public for policy discussion. The remaining portions of this meeting, from 9 a.m. to 6 p.m. on August 5th-8th, and from 10:30 a.m. to 4 p.m. on August 9th, will be closed.

Local Arts Agencies (A): August 7-8, 2002, Room 730 (Creativity category). A portion of this meeting, from 9 a.m. to 9:45 a.m. on August 8th, will be open to the public for policy discussion. The remaining portion of this meeting, from 9 a.m. to 5:30 p.m. on August 7th, will be closed.

Local Arts Agencies (B): August 8, 2002, Room 730 (Organizational Capacity category). A portion of this meeting, from 1:15 p.m. to 1:45 p.m., will be open to the public for policy discussion. The remaining portion of this meeting, from 10 a.m.. to 1:15 p.m., will be closed.

The closed portions of these meetings are for the purpose of Panel review, discussion, evaluation, and recommendation on applications for financial assistance under the National Foundation on the Arts and the Humanities Act of 1965, as amended, including information given in confidence to the agency by grant applicants. In accordance with the determination of the Chairman of May 2, 2002, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, 202/682-5532, TDY-TDD 202/682-5496, at least seven (7) days prior to the meeting.

Further information with reference to this meeting can be obtained from Ms. Kathy Plowitz-Worden, Office of Guidelines & Panel Operations, National Endowment for the Arts, Washington, DC, 20506, or call 202/682-5691.

Dated: June 27, 2002.
Kathy Plowitz-Worden,
Panel Coordinator, Panel Operations, National Endowment for the Arts.

[FR Doc. 02-16669 Filed 7-2-02; 8:45 am]

BILLING CODE 7537-01-P